ENVIRONMENTAL PROTECTION AGENCY

40 CFR Part 63

[EPA-HQ-OAR-2003-0146; FRL-9169-7]

RIN 2060-AO55

National Emission Standards for Hazardous Air Pollutants From Petroleum Refineries

AGENCY: Environmental Protection Agency (EPA).

ACTION: Final rule; correction.

SUMMARY: On October 28, 2009, we promulgated general control requirements to control emissions of hazardous air pollutants from heat exchange systems at petroleum refineries. These requirements were published as amendments to the national emission standards for petroleum refineries. In this notice, we are correcting typographical errors and inadvertent errors in section references.

DATES: This correction is effective on July 30, 2010.

SUPPLEMENTARY INFORMATION:

I. Summary of Amendments

On October 28, 2009, we promulgated general control requirements to control emissions of hazardous air pollutants from heat exchange systems at petroleum refineries. 74 FR 55670 (40 CFR part 63, subpart CC). In this action, we are correcting technical errors in the promulgated rule.

Table 1 below describes the miscellaneous technical corrections we are making to 40 CFR part 63, subpart CC.

Table 1—Technical Corrections to 40 CFR Part 63, Subpart CC
Section | Technical correction and reason
63.646(j) | Replace “§ 63.654(f)” with “§ 63.655(f)” to correct a section reference.
63.646(k) | Replace “§ 63.654(g)” with “§ 63.655(g)” to correct a section reference.
63.654(f) | Replace “paragraphs (f)(1) through (3) of this section” with “paragraphs (f)(1) and (2) of this section” to remove the reference to a nonexistent paragraph.
63.655(i)(1)(ii) | Replace “§ 63.654(e)” with “§ 63.655(e)” to correct a section reference.
Table 4, first column heading | Replace “subpart Y” with “subpart R” to correct a section reference.
Table 6, entry for 63.8(c)(4) | Replace “is “once every hour rather” than” with “is “once every hour” rather than” to correct a typographical error.
Table 6, entry for 63.10(b)(1) | Replace “§ 63.644(d)” with “§ 63.655(i)” to correct a section reference.

Section 553 of the Administrative Procedure Act (APA), 5 U.S.C. 553(b)(B), provides that, when an agency, for good cause, finds that notice and public procedure are impracticable, unnecessary, or contrary to the public interest, the agency may issue a rule without providing notice and an opportunity for public comment. We have determined that there is good cause for making this technical correction final without prior proposal and opportunity for comment because only simple typographical errors are being corrected and these corrections do not substantially change the Agency actions taken in the final rule. Thus, notice and public procedure are unnecessary and we find that this constitutes good cause under 5 U.S.C. 553(b)(B). (See also the final sentence of section 307(d)(1) of the Clean Air Act (CAA), 42 U.S.C. 307(d)(1), indicating that where the good cause exception is invoked pursuant to section 553(b)(B) of the APA, the procedures in section 307(d) in subsection 553(b) of the APA, the procedures in section 307(d) of the CAA do not apply.)

II. Statutory and Executive Order Reviews

Under Executive Order 12866, Regulatory Planning and Review (58 FR 51735, October 4, 1993), this action is not a “significant regulatory action” and is, therefore, not subject to review by the Office of Management and Budget. This action is not a “major rule” as defined by 5 U.S.C. 804(2). The technical corrections do not impose an information collection burden under the provisions of the Paperwork Reduction Act of 1995 (44 U.S.C. 3501, et seq.).

Because EPA has made a “good cause” finding that this action is not subject to notice and comment requirements under the APA or any other statute (see Section I of this preamble), it is not subject to the regulatory flexibility provisions of the Regulatory Flexibility Act (5 U.S.C. 601, et seq.), or to sections 202 and 205 of the Unfunded Mandates Reform Act of 1995 (UMRA) (Pub. L. 104-4). In addition, this action does not significantly or uniquely affect small governments or impose a significant intergovernmental mandate, as described in sections 203 and 204 of the UMRA.

This technical correction does not have substantial direct effects on the States, or on the relationship between the national government and the States, or on the distribution of power and responsibilities among the various levels of government, as specified in Executive Order 13132, Federalism (64 FR 43255, August 10, 1999).

This action does not significantly or uniquely affect the communities of tribal governments, as specified by Executive Order 13175, Consultation and Coordination with Indian Tribal Governments (65 FR 67249, November 9, 2000). This correction also is not subject to Executive Order 13045, Protection of Children from Environmental Health Risks and Safety Risks (62 FR 19885, April 23, 1997) because it is not economically significant.

This technical correction is not subject to Executive Order 13211, Actions Concerning Regulations That Significantly Affect Energy Supply, Distribution, or Use (66 FR 28355, May 22, 2001) because this action is not a significant regulatory action under Executive Order 12866.

This technical correction does not involve changes to the technical standards related to test methods or monitoring requirements; thus, the requirements of section 12(d) of the National Technology Transfer and Advancement Act of 1995 (15 U.S.C. 272) do not apply.

This technical correction also does not involve special consideration of environmental justice-related issues as required by Executive Order 12898, Federal Actions to Address Environmental Justice in Minority Populations and Low-Income Populations (59 FR 7629, February 16, 1994).

The Congressional Review Act (CRA), 5 U.S.C. 801, et seq., as added by the Small Business Regulatory Enforcement Fairness Act of 1996, generally provides that before a rule may take effect, the agency promulgating the rule must submit a rule report, which includes a copy of the rule, to each House of the Congress and to the Comptroller General of the United States. The CRA does, however, exclude any rule that does not substantially affect the rights and obligations of outside parties. Therefore, the scope of the CRA does not include technical corrections. This action is not a “major rule” as defined by 5 U.S.C. 804(2). The final rule will be effective July 30, 2010.

List of Subjects in 40 CFR Part 63

Environmental protection, Air pollution control, Hazardous substances, Reporting and recordkeeping requirements.

Dated: June 24, 2010.
Lisa P. Jackson,
Administrator.

For the reasons set out in the preamble, title 40, chapter I, part 63 of the Code of Federal Regulations is amended as follows:

PART 63—[AMENDED]

1. The authority citation for part 63 continues to read as follows:

Authority: 42 U.S.C. 7401, et seq.

Subpart CC—[Amended]

2. Section 63.646 is amended by:

a. Revising paragraph (j) and

b. Revising paragraph (k) to read as follows:

§ 63.646 Storage vessel provisions.

* * * * *

(j) References to the Notification of Compliance Status report in § 63.152(b) mean the Notification of Compliance Status required by § 63.655(f).

(k) References to the Periodic Reports in § 63.152(c) mean the Periodic Report required by § 63.655(g).

* * * * *

3. Section 63.654 is amended by revising the first sentence of paragraph (f) introductory text to read as follows:

§ 63.654 Heat exchange systems.

* * * * *

(f) The owner or operator may delay the repair of a leaking heat exchanger when one of the conditions in paragraphs (f)(1) and (2) of this section is met. * * *

* * * * *

4. Section 63.655 is amended by revising paragraph (i)(1)(ii) to read as follows:

§ 63.655 Reporting and recordkeeping requirements.

* * * * *

(i) * * *

(1) * * *

(ii) All references to § 63.122 in § 63.123 of subpart G of this part shall be replaced with § 63.655(e),

* * * * *

Appendix to Subpart CC of Part 63—Tables—[Amended]

5. Table 4 of the appendix to subpart CC of part 63 is amended by revising the column headings to read as follows:

Table 4—Gasoline Distribution Emission Point Recordkeeping and Reporting Requirements ᵃ
Reference (section of subpart R) | Description | Comment
* * * * * * *

* * * * *

6. Table 6 of the appendix to subpart CC of part 63 is amended by revising the entries for §§ 63.8(c)(4) and 63.10(b)(1) to read as follows:

TABLE 6—General Provisions Applicability to Subpart CC ᵃ
Reference | Applies to subpart CC | Comment
* * * * * * *
63.8(c)(4) | Yes | Except subpart CC specifies the monitoring cycle frequency specified in § 63.8(c)(4)(ii) is “once every hour” rather than “for each successive 15-minute period.”
* * * * * * *
63.10(b)(1) | No | § 63.655(i) of subpart CC specifies record retention requirements.
* * * * * * *

* * * * *

[FR Doc. 2010-15889 Filed 6-29-10; 8:45 am]

BILLING CODE 6560-50-P